DEPARTMENT OF COMMERCE

International Trade Administration

[A-475-840]

Forged Steel Fluid End Blocks From Italy: Final Results of Antidumping Duty Administrative Review; 2023

AGENCY: Enforcement and Compliance, International Trade Administration, Department of Commerce.

SUMMARY: The U.S. Department of Commerce (Commerce) determines that certain producers/exporters subject to this administrative review made sales of forged steel fluid end blocks (fluid end blocks) from Italy at less than normal value during the period of review (POR) of January 1, 2023, through December 31, 2023.

DATES: Applicable January 27, 2026.

FOR FURTHER INFORMATION CONTACT: Maria Teresa Aymerich or Paul Kebker, AD/CVD Operations, Office IV, Enforcement and Compliance, International Trade Administration, Department of Commerce, 1401 Constitution Avenue NW, Washington, DC 20230; telephone: (202) 482-0499 or (202) 482-2254, respectively.

SUPPLEMENTARY INFORMATION:

Background

On May 14, 2025, Commerce published the Preliminary Results and invited interested parties to comment.¹ This administrative review covers two producers and exporters of subject merchandise. The mandatory respondents in this administrative review are Cogne Acciai Speciali S.p.A. and Lucchini Mamé Forge S.p.A.² On September 29, 2025, Commerce issued a post-preliminary analysis memorandum in which it made certain changes to its differential pricing analysis.³

¹ See Forged Steel Fluid End Blocks From Italy: Preliminary Results and Rescission in Part of Antidumping Duty Administrative Review; 2023, 90 FR 20444 (May 14, 2025) (Preliminary Results), and accompanying Preliminary Decision Memorandum (PDM).

² We continue to find that Lucchini Mamé Forge S.p.A. (LMA) is affiliated with Lucchini Industries S.r.l. (LIND) and Lucchini RS S.p.A. (LRS)(LMA, LIND, and LRS are collectively referred to as Lucchini).

³ See Memorandum, “Post-Preliminary Analysis for the Administrative Review of Forged Steel Fluid End Blocks from Italy,” dated September 29, 2025 (Post Preliminary Results).

On August 8, 2025, Commerce extended the deadline for the final results by 60 days.⁴ Due to the lapse in appropriations and Federal Government shutdown, on November 14, 2025, Commerce tolled all deadlines in administrative proceedings by 47 days,⁵ and, due to a backlog of documents that were electronically filed via Enforcement and Compliance's Antidumping and Countervailing Duty Centralized Electronic Service System (ACCESS) during the Federal Government shutdown, on November 24, 2025, Commerce tolled all deadlines in administrative proceedings by an additional 21 days.⁶ On December 22, 2025, we extended the preliminary results of this review.⁷ Accordingly, the deadline for these preliminary results is now January 21, 2026.

⁴ See Memorandum, “Extension of Deadline for Final Results of Antidumping Duty Administrative Review,” dated August 8, 2025.

⁵ See Memorandum, “Deadlines Affected by the Shutdown of the Federal Government,” dated November 14, 2025.

⁶ See Memorandum, “Tolling of all Case Deadlines,” dated November 24, 2025.

⁷ See Memorandum, “Extension of Deadline for the Preliminary Results of the 2023-2024 Antidumping Administrative Review,” dated December 22, 2025.

A summary of the events that occurred since the Post Preliminary Results, as well as a full discussion of the issues raised by parties for these final results, are discussed in the Issues and Decision Memorandum.⁸ The Issues and Decision Memorandum is a public document and is on file electronically via ACCESS. ACCESS is available to registered users at https://access.trade.gov. In addition, a complete version of the Issues and Decision Memorandum can be accessed directly at https://access.trade.gov/public/FRNoticesListLayout.aspx.

⁸ See Memorandum, “Issues and Decision Memorandum for the Final Results of the Antidumping Duty Administrative Review of Forged Steel Fluid End Blocks from Italy; 2023,” dated concurrently with, and hereby adopted by, this notice (Issues and Decision Memorandum).

Commerce is conducting this administrative review in accordance with section 751(a)(1)(B) of Tariff Act of 1930, as amended (the Act).

Scope of the Order ⁹

⁹ See Forged Steel Fluid End Blocks from the Federal Republic of Germany and Italy: Amended Final Antidumping Duty Determination for the Federal Republic of Germany and Antidumping Duty Orders, 86 FR 7528 (January 29, 2021) (Order).

The scope of the Order covers fluid end blocks from Italy. A full description of the scope of the Order is contained in the Issues and Decision Memorandum.

Analysis of Comments Received

All issues raised in the case and rebuttal briefs filed by parties are listed as an appendix to this notice and addressed in the Issues and Decision Memorandum.

Changes Since the Preliminary Results

Based on our analysis of the comments received, and for the reasons explained in the Issues and Decision Memorandum, apart from our Post Preliminary Results, we made certain changes from the Preliminary Results.

Final Results of Administrative Review

For these final results, we determine that the following estimated weighted-average dumping margins exist for the period January 1, 2023, through December 31, 2023:

Producer/exporter | Weighted- average dumping margin (percent)
Lucchini Mamé Forge S.p.A.; Lucchini Industries S.r.l.; Lucchini RS S.p.A | 11.71
Cogne Acciai Speciali S.p.A | 0.00

Disclosure

Commerce intends to disclose the calculations performed in connection with these final results of review to parties in this review within five days after public announcement of the final results or, if there is no public announcement, within five days of the date of publication of this notice in the Federal Register, in accordance with 19 CFR 351.224(b).

Assessment Rates

Pursuant to section 751(a)(2)(C) of the Act and 19 CFR 351.212(b)(1), Commerce shall determine, and U.S. Customs and Border Protection (CBP) shall assess, antidumping duties on all appropriate entries of subject merchandise in accordance with the final results of this review. For any individually examined respondents whose weighted-average dumping margin is above de minimis, we calculated importer-specific ad valorem duty assessment rates based on the ratio of the total amount of antidumping duties calculated for the examined sales to the total entered value of the examined sales to that importer. If the respondent's weighted-average dumping margin is zero or de minimis within the meaning of 19 CFR 351.106(c)(1) or an importer-specific assessment rate is zero or de minimis, we will instruct CBP to liquidate the appropriate entries without regard to antidumping duties.

For entries of subject merchandise during the POR produced by either of the individually examined respondents for which it did not know that the merchandise was destined to the United States, we will instruct CBP to liquidate those entreis at the all-others rate (i.e., 7.33 percent) ¹⁰ if there is no rate for the intermediate company(ies) involved in the transaction.¹¹

¹⁰ See Order, 86 FR at 7530.

¹¹ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of this notice in the Federal Register, as provided by section 751(a)(2)(C) of the Act: (1) the cash deposit rate for companies subject to this review will be equal to the weighted-average dumping margin listed in the “Final Results of Administrative Review” section above, except if the rate is less than 0.50 percent and, therefore, de minimis within the meaning of 19 CFR 351.106(c)(1), in which case the cash deposit raet will be zero; (2) for previously investigated or reviewed companies not covered in this review, the cash deposit rate will continue to be the company-specific cash deposit rate published for the most recently completed segment of this proceeding in which the company participated; (3) if the exporter is not a firm covered in this review, a prior review, or the investigation of sales at LTFV, but the producer is, then the cash deposit rate will be the rate established for the most recently completed segment of this proceeding for the producer of the merchandise; and (4) the cash deposit rate for all other producers or exporters will continue to be 7.33 percent, the all-others rate established in the LTFV investigation.¹² These cash deposit requirements, when imposed, shall remain in effect until further notice.

¹² See Order, 86 at 7530.

Notification to Importers

This notice serves as a final reminder to importers of their responsibility under 19 CFR 351.402(f)(2) to file a certificate regarding the reimbursement of antidumping and/or countervailing duties prior to liquidation of the relevant entries during this POR. Failure to comply with this requirement could result in Commerce's presumption that reimbursement of antidumping duties and/or countervailing duties has occurred and the subsequent assessment of double antidumping duties, and/or an increase in the amount of antidumping duties by the amount of countervailing duties.

Administrative Protective Order

This notice also serves as a reminder to parties subject to administrative protective order (APO) of their responsibility concerning the destruction or return of proprietary information disclosed under APO in accordance with 19 CFR 351.305(a)(3), which continues to govern business proprietary information in this segment of the proceeding. Timely written notification of the destruction or return of APO materials or conversion to judicial protective order is hereby requested. Failure to comply with the regulations and terms of an APO is a sanctionable violation.

Notification to Interested Parties

We are issuing and publishing these final results of review and this notice in accordance with sections 751(a)(1) and 777(i)(1) of the Act, and 19 CFR 351.213(h) and 351.221(b)(5).

Dated: January 20, 2026.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issues

Comment 1: Whether Commerce Incorrectly made an Upward Adjustment to Lucchini's Costs

Comment 2: Whether Scrap Amounts are Offset Twice in Lucchini's Raw Material Buildup

Comment 3: Whether Commerce was Correct to Deduct Certain Sales from Lucchini's Cash Deposit Rate

VI. Recommendation

[FR Doc. 2026-01597 Filed 1-26-26; 8:45 am]

BILLING CODE 3510-DS-P